DEPARTMENT OF THE INTERIOR

Bureau of Ocean Energy Management

[MMAA 104000]

Gulf of Mexico, Outer Continental Shelf, Western Planning Area Oil and Gas Lease Sale 246

AGENCY: Bureau of Ocean Energy Management (BOEM), Interior.

ACTION: Notice of Availability of a Record of Decision for Proposed Western Planning Area (WPA) Lease Sale 246, which is analyzed in the Gulf of Mexico Outer Continental Shelf (OCS) Oil and Gas Lease Sales: 2015-2016; WPA Lease Sales 246 and 248; Final Supplemental Environmental Impact Statement.

SUMMARY: BOEM has prepared a Record of Decision for proposed oil and gas WPA Lease Sale 246, which is scheduled for August 19, 2015. The proposed lease sale is in the Gulf of Mexico's WPA off the states of Texas and Louisiana. Proposed WPA Lease Sale 246 is the fourth WPA lease sale scheduled in the OCS Oil and Gas Leasing Program for 2012-2017. In making its decision, BOEM considered two alternatives to the proposed action, the potential impacts as presented in the WPA 246 and 248 Supplemental Environmental Impact Statement (EIS), and all comments received throughout the National Environmental Policy Act process. The Western Planning Area 246 and 248 Supplemental EIS evaluated the environmental and socioeconomic impacts for proposed Western Planning Area Lease Sale 246.

SUPPLEMENTARY INFORMATION: In the WPA 246 and 248 Supplemental EIS, the Bureau of Ocean Energy Management (BOEM) evaluated three alternatives that are summarized below:

Alternative A—The Proposed Action: This is BOEM's preferred alternative. This alternative would offer for lease all unleased blocks within the proposed WPA lease sale area for oil and gas operations with the following exception: Whole and partial blocks within the boundary of the Flower Garden Banks National Marine Sanctuary.

All unleased whole and partial blocks in the WPA that BOEM will offer for leasing in proposed WPA Lease Sale 246 are listed in the document “List of Blocks Available for Leasing,” which is included in the Final Notice of Sale 246 Package. The proposed WPA lease sale area encompasses nearly all of the WPA's 28.58 million acres. As of February 2015, approximately 21.9 million acres of the proposed WPA lease sale area were unleased. The estimated amount of resources projected to be developed as a result of this proposal is 0.116-0.200 billion barrels of oil (BBO) and 0.538-0.938 trillion cubic feet (Tcf) of gas.

Alternative B—Exclude the Unleased Blocks Near the Biologically Sensitive Topographic Features: This alternative would offer for lease all unleased blocks within the proposed WPA lease sale area, as described for the proposed action (Alternative A), but it would exclude from leasing any unleased blocks subject to the Topographic Features Stipulation. The estimated amount of resources projected to be developed under this alternative is 0.116-0.200 BBO and 0.538-0.938 Tcf of gas, which is the same as is estimated for Alternative A. The number of blocks that would not be offered under Alternative B represent only a small percentage of the total number of blocks to be offered under Alternative A; therefore, it is expected that the levels of oil and gas activity and related environmental impact for Alternative B would be essentially the same as those projected for a WPA proposed action.

Alternative C—No Action: This alternative is the cancellation of proposed WPA Lease Sale 246 and is identified as the environmentally preferable alternative.

After careful consideration, BOEM has selected the proposed action, identified as BOEM's preferred alternative (Alternative A) in the WPA 246 and 248 Supplemental EIS. BOEM's selection of the preferred alternative meets the purpose and need for the proposed action, as identified in the WPA 246 and 248 Supplemental EIS, and will result in orderly resource development with protection of the human, marine, and coastal environments, while also ensuring that the public receives an equitable return for these resources.

Record of Decision (ROD) Availability: To obtain a single printed or CD copy of the ROD for proposed WPA Lease Sale 246, you may contact BOEM, Gulf of Mexico OCS Region, Public Information Office (GM 323A), 1201 Elmwood Park Boulevard, New Orleans, Louisiana 70123-2394 (1-800-200-GULF). An electronic copy of the ROD is available on BOEM's Web site at http://www.boem.gov/nepaprocess/.

Additional Information: For more information on the ROD, you may contact Mr. Gary D. Goeke, Bureau of Ocean Energy Management, Gulf of Mexico OCS Region, 1201 Elmwood Park Boulevard (GM 623E), New Orleans, Louisiana 70123-2394. You may also contact Mr. Goeke by telephone at 504-736-3233.

Authority: This Notice of Availability is published pursuant to the regulations (40 CFR part 1503) implementing the provisions of the National Environmental Policy Act of 1969, as amended (42 U.S.C. §§ 4321 et seq.).

Dated: July 8, 2015.
Abigail Ross Hopper,
Director, Bureau of Ocean Energy Management.

[FR Doc. 2015-17606 Filed 7-16-15; 8:45 am]

BILLING CODE 4310-MR-P